OFFICE OF MANAGEMENT AND BUDGET

OMB Sequestration Update Report to the President and Congress for Fiscal Year 2025

AGENCY: Executive Office of the President, Office of Management and Budget.

ACTION: Notice of availability of the OMB Sequestration Update Report to the President and Congress for FY 2025.

SUMMARY: OMB is issuing the OMB Sequestration Update Report to the President and Congress for Fiscal Year 2025 to report on the status of the discretionary caps and on the compliance of pending discretionary appropriations legislation with those caps.

DATES: August 16, 2024.

ADDRESSES: The OMB Sequestration Reports to the President and Congress is available on-line on the OMB home page at: https://www.whitehouse.gov/omb/legislative/sequestration-reports-orders/.

FOR FURTHER INFORMATION CONTACT: Thomas Tobasko, 6202 New Executive Office Building, Washington, DC 20503, Email address: ttobasko@omb.eop.gov, telephone number: (202) 395-5745, FAX number: (202) 395-4768. Because of delays in the receipt of regular mail related to security screening, respondents are encouraged to use electronic communications.

SUPPLEMENTARY INFORMATION: Section 254 of the Balanced Budget and Emergency Deficit Control Act of 1985 requires the Office of Management and Budget (OMB) to issue a Sequestration Update Report by August 20th of each year statutory discretionary caps are in place. For fiscal year 2024, the report finds enacted appropriations at or below the statutory caps. For fiscal year 2025, the report finds that appropriations actions to date by the House of Representatives and the Senate for the 12 annual appropriations bills for fiscal year 2025 would breach both the defense and non-defense caps under preliminary OMB estimates if they were enacted into law. The report further notes that final legislative action will determine the need for sequestration and the Administration will work with the Congress to ensure that an unintended sequestration does not occur. The report contains OMB's Preview Estimate of the Disaster Relief Funding Adjustment for FY 2025.

Shalanda D. Young,
Director.

[FR Doc. 2024-18690 Filed 8-20-24; 8:45 am]

BILLING CODE P